DEPARTMENT OF LABOR

Employment and Training Administration

[TA-W-53,580]

Piedmont Bottling & Vending, Inc., Hickory, NC; Notice of Termination of Investigation

Pursuant to Section 221 of the Trade Act of 1974, as amended, an investigation was initiated on November 19, 2003 in response to a worker petition filed by a company official on behalf of workers at Piedmont Bottling & Vending, Inc., Hickory, North Carolina.

The petitioner has requested that the petition be withdrawn. Consequently, further investigation would serve no purpose, and the investigation has been terminated.

Signed at Washington, DC this 2nd day of December, 2003.
Linda G. Poole,
Certifying Officer, Division of Trade Adjustment Assistance.

[FR Doc. 03-31679 Filed 12-23-03; 8:45 am]

BILLING CODE 4510-30-P